DEPARTMENT OF VETERANS AFFAIRS

38 CFR Part 17

RIN 2900-AH95

Medical; Nonsubstantive Miscellaneous Changes; Correction

AGENCY: Department of Veterans Affairs.

ACTION: Correcting amendment.

SUMMARY: The Department of Veterans Affairs (VA) published a final rule in the Federal Register on May 13, 1996 (61 FR 21964), amending its medical regulations in 38 CFR part 17 by making a number of nonsubstantive changes. Specifically, section numbers were redesignated, redundant and obsolete material was removed, certain position and organizational titles were changed, and material previously deleted was restored. The document contained an error in an amendatory instruction. We removed portions of § 17.31 and inadvertently redesignated § 17.31(b)(5) as the new § 17.31, creating two sections for § 17.31. This document will correct that error by removing the second, obsolete § 17.31.

DATES: Effective Date: September 8, 2010.

FOR FURTHER INFORMATION CONTACT: Ethan Kalett, Director of Regulatory Affairs (107B), Veterans Health Administration, Department of Veterans Affairs, 810 Vermont Avenue, NW., Washington, DC 20420; (202) 461-7633. (This is not a toll-free number.)

SUPPLEMENTARY INFORMATION: On May 13, 1996, VA published a final rule in the Federal Register (61 FR 21964) amending its medical regulations in 38 CFR part 17 by making a number of nonsubstantive changes. In the document, we removed § 17.31 (a), (b) introductory text and (b)(1) through (b)(4), (b)(6), (b)(7), and (c), leaving (b)(5) and (d). Inadvertenly, we then redesignated § 17.31(b)(5) as § 17.31, creating a second § 17.31. The second § 17.31 is obsolete. This document corrects the error by removing the second § 17.31 from 38 CFR part 17.

List of Subjects in 38 CFR Part 17

Administrative practice and procedure, Alcohol abuse, Alcoholism, Claims, Day care, Dental health, Drug abuse, Foreign relations, Government contracts, Grant programs—health, Grant programs—veterans, Health care, Health facilities, Health professions, Health records, Homeless, Medical and dental schools, Medical devices, Medical research, Mental health programs, Nursing homes, Philippines, Reporting and recordkeeping requirements, Scholarships and fellowships, Travel and transportation expenses, Veterans.

Approved:
Robert C. McFetridge,
Director, Regulation Policy and Management, Office of the General Counsel, Department of Veterans Affairs.

For the reason set out in the preamble, VA is correcting 38 CFR part 17 as follows.

PART 17—MEDICAL

1. The authority citation for part 17 continues to read as follows:

Authority: 38 U.S.C. 501, 1721, and as stated in specific sections.

2. In part 17, remove the second § 17.31.

[FR Doc. 2010-22252 Filed 9-7-10; 8:45 am]

BILLING CODE P